DEPARTMENT OF HOMELAND SECURITY

Office of the Secretary

[Docket No. DHS-2008-0144]

Privacy Act of 1974; United States Coast Guard—006 Great Lakes Registered Pilot and Applicant Pilot Eligibility System of Records

AGENCY: Privacy Office; DHS.

ACTION: Notice of Privacy Act system of records.

SUMMARY: In accordance with the Privacy Act of 1974 and as part of the Department of Homeland Security's ongoing effort to review and update legacy system of records notices, the Department of Homeland Security is giving notice that it proposes to update and reissue the following legacy record system DOT/CG 592 Registered/Applicant Pilot Eligibility Folder (April 11, 2000), as Department of Homeland Security system of records notice titled, United States Coast Guard—006 Great Lakes Registered Pilot and Applicant Pilot Eligibility Records. Categories of individuals, categories of records, and the routine uses of this legacy system of records notice have been updated to better reflect the United States Coast Guard's Great Lakes Registered Pilot's and Applicant Pilot's files. This system will be included in the Department's inventory of record systems.

DATES: Written comments must be submitted on or before January 20, 2009. This new system will be effective January 20, 2009.

ADDRESSES: You may submit comments, identified by docket number DHS-2008-0144 by one of the following methods:

• Federal e-Rulemaking Portal: http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change and may be read at http://www.regulations.gov, including any personal information provided.

• Docket: For access to the docket to read background documents or comments received, go to http://www.regulations.gov.

FOR FURTHER INFORMATION CONTACT: For general questions please contact: David Roberts (202-475-3521), United States Coast Guard Privacy Officer, United States Coast Guard. For privacy issues please contact: Hugo Teufel III (703-235-0780), Chief Privacy Officer, Privacy Office, Department of Homeland Security, Washington, DC 20528.

SUPPLEMENTARY INFORMATION:

I. Background

Pursuant to the savings clause in the Homeland Security Act of 2002, Public Law 107-296, Section 1512, 116 Stat. 2310 (November 25, 2002), the Department of Homeland Security (DHS) and its components and offices have relied on preexisting Privacy Act systems of records notices for the maintenance of records pertaining to Great Lakes registered and applicant pilots.

As part of its efforts to streamline and consolidate its record systems, DHS is updating and reissuing a system of records under the Privacy Act (5 U.S.C. 552a) that deals with pilot registration and qualification documentation. This records system will allow DHS/United States Coast Guard (USCG) to collect and preserve the records related to applicant and registered pilots that assists USCG in meeting its statutory obligation to establish, regulate, and oversee the operations of a pilotage system on the Great Lakes. Additionally this record system is used to maintain records of individuals who are registered as Great Lakes pilots to perform pilotage duties aboard foreign trade vessels on the Great Lakes and to maintain applications of mariners seeking registration as a Great Lakes registered pilot. In order to apply for this program, an individual must already maintain a USCG issued license. In accordance with the Privacy Act of 1974 and as part of DHS's ongoing effort to review and update legacy system of records notices, DHS is giving notice that it proposes to update and reissue the following legacy record system DOT/CG 592 Registered/Applicant Pilot Eligibility Folder (65 FR 19476 April 11, 2000), as DHS system of records notice titled, USCG Great Lakes Registered Pilot and Applicant Pilot Eligibility Records. Categories of individuals, categories of records, and the routine uses of this legacy system of records notice have been updated to better reflect the USCG's Great Lakes registered pilot's and applicant pilot's files. This system will be included in the Department's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires each agency to publish in the Federal Register a description denoting the type and character of each system of records that the agency maintains, and the routine uses that are contained in each system in order to make agency recordkeeping practices transparent, to notify individuals regarding the uses to which their records are put, and to assist individuals to more easily find such files within the agency. Below is the description of the Registered Pilot and Applicant Pilot Eligibility Records System of Records.

In accordance with 5 U.S.C. 552a(r), DHS has provided a report of this system of records to the Office of Management and Budget (OMB) and to Congress.

System of Records: DHS/USCG-006

System name:

United States Coast Guard—006 Great Lakes Registered Pilot and Applicant Pilot Eligibility Records.

Security classification:

Unclassified.

System location:

Records are maintained at USCG Headquarters in the Waterways Management Office, Great Lakes Pilotage Branch, (CG-54122) in Washington, DC.

Categories of individuals covered by the system:

All United States Great Lakes registered pilots who are qualified to perform pilotage duties aboard foreign trade vessels on the Great Lakes; those individuals seeking selection as an applicant pilot on the Great Lakes records; and those individuals whose applications were rejected as a pilot on the Great Lakes.

Categories of records in the system:

Categories of records in the system include:

• Pilot's full name, home address, social security number, date and place of birth, height, weight, color of eyes and hair, citizenship, photograph.

• Application for registration;

• Renewal of registration;

• Annual report of physical examination and drug testing;

• Coast Guard license and merchant mariner document data;

• Examination and test results for registration; and

• Sea service record and other related documentation provided by the pilot or applicant.

Authority for maintenance of the system:

5 U.S.C. 301; 14 U.S.C. 632; the Federal Records Act, 44 U.S.C. 3101; 49 CFR 1.45, 1.46; 46 U.S.C. 9301-9308.

Purpose(s):

The purpose of this system is to assist USCG in meeting its statutory obligation to establish, regulate, and oversee the operations of a pilotage system on the Great Lakes and to maintain records of individuals who are registered as Great Lakes pilots to perform pilotage duties aboard foreign trade vessels on the Great Lakes and to maintain applications of mariners seeking registration as a Great Lakes pilot.

Routine uses of records maintained in the system, including categories of users and the purposes of such uses:

In addition to those disclosures generally permitted under 5 U.S.C. 552a(b) of the Privacy Act, all or a portion of the records of information contained in this system may be disclosed outside DHS as a routine use pursuant to 5 U.S.C. 552a(b)(3) as follows:

A. To the Department of Justice or other Federal agency conducting litigation or in proceedings before any court, adjudicative or administrative body, when:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To assist training program needs, retirements, statistical compilations, and negotiations with Canadian authorities to assure equitable participation by U.S. registered pilots with Canadian registered pilots.

I. To an appropriate Federal, state, local, tribal, territorial, foreign, or international agency, if the information is relevant and necessary to a requesting agency's decision concerning the hiring or retention of an individual, or issuance of a security clearance, license, contract, grant, or other benefit, or if the information is relevant and necessary to a DHS decision concerning the hiring or retention of an employee, the issuance of a security clearance, the reporting of an investigation of an employee, the letting of a contract, or the issuance of a license, grant, or other benefit and when disclosure is appropriate to the proper performance of the official duties of the person making the request.

J. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records may be retrieved by name and pilot registration number.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

Records are Destroyed 6 years after the individual's license expires, upon death of the individual or when the individual turns 70 years old, whichever is sooner. (AUTH: N1-26-05-2, Item 1)

System Manager and address:

Commandant, CG-54122, Chief, Pilotage Branch, United States Coast Guard Headquarters, 2100 2nd Street, SW., Washington, DC 20593-0001.

Notification procedure:

Individuals seeking notification of and access to any record contained in this system of records, or seeking to contest its content, may submit a request in writing to Commandant, CG-54122, Chief, Great Lakes Pilotage Branch, United States Coast Guard Headquarters, 2100 2nd Street, SW., Washington, DC 20593-0001.

When seeking records about yourself from this system of records or any other USCG system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition, you should provide the following:

• An explanation of why you believe the Department would have information on you;

• Specify when you believe the records would have been created; and

• If your request is seeking records pertaining to another living individual, you must include a statement from that individual certifying his/her agreement for you to access his/her records.

Without this bulleted information the USCG will not be able to conduct an effective search, and your request may be denied due to lack of specificity or lack of compliance with applicable regulations.

Record access procedures:

See “Notification procedure” above.

Contesting record procedures:

See “Notification procedure” above.

Record source categories:

Individual's original application for U.S. pilot's registration and individual's yearly report of medical examination.

Exemptions claimed for the system:

None.

Dated: December 10, 2008.
Hugo Teufel III,
Chief Privacy Officer, Department of Homeland Security.

[FR Doc. E8-29806 Filed 12-18-08; 8:45 am]

BILLING CODE 4410-10-P